DEPARTMENT OF JUSTICE

Office of Justice Programs

[OMB Number 1121-0235]

Agency Information Collection Activities

ACTION: 30-Day notice of information collection under review: Revision of a currently approved collection; Bulletproof Vest Partnership.

The Department of Justice (DOJ), Office of Justice Programs (OJP) has submitted the following information collection request to the Office of Management and Budget (OMB) for review and approval in accordance with the Paperwork Reduction Act of 1995. The proposed collection information is published to obtain comments from the public and affected agencies. This proposed information collection was previously published in the Federal Register [Volume 71, Number 191, page 58432 on October 3, 2006], allowing for a 60-day comment period. The purpose of this notice is to allow for an additional 30 days for public comment until January 4, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Comments may also be submitted to the M. Pressley, Bureau of Justice Assistance, Office of Justice Programs, U.S. Department of Justice, 810 7th Street, NW., Washington, DC 20531 via facsimile to (202) 305-1367.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Bulletproof Vest Partnership.

(3) Agency form number, if any, and the applicable component of the Department of Justice sponsoring the collection: None.

(4) Affected public who will be asked or required to respond, as well as a brief abstract:

Primary: State, Local, or Tribal Governments.

Abstract: The Bureau of Justice Assistance (BJA) collects this information as part of the application for federal assistance process under the Bulletproof Vest Partnership (BVP) Program. The purpose of this program is to help protect the lives of law enforcement officers by helping states and units of local and tribal governments equip their officers with armor vests. An applicant may request funds to help purchase one vest per officer per fiscal year. Federal payment covers up to 50 percent of each jurisdiction's total costs. BJA uses the information collected to review, approve, and make awards to jurisdictions in accordance with programmatic and statutory requirements.

Others: None.

(5) An estimate of the total number of respondents and the amount of time needed for an average respondent to respond is as follows: There are approximately 5,000 respondents who will respond once per year, for a total of 5,000 responses. Each response will require approximately 1 hour to complete.

(6) An estimate of the total public burden (in hours) associated with the collection: The estimated total public burden hours associated with this collection is 5,000 hours.

If additional information is required contact Lynn Bryant, Department Clearance Officer, United States Department of Justice, Justice Management Division, Policy and Planning Staff, Patrick Henry Building, Suite 1600, 601 D Street, NW., Washington, DC 20530.

Dated: November 29, 2006.
Lynn Bryant,
Department Clearance Officer, United States Department of Justice.

[FR Doc. E6-20512 Filed 12-4-06; 8:45 am]

BILLING CODE 4410-18-P